DEPARTMENT OF AGRICULTURE

Federal Crop Insurance Corporation

7 CFR Part 457

RIN 0563-AB76

Common Crop Insurance Regulations; Pecan Revenue Crop Insurance Provisions

Correction

In rule document 04-19446 beginning on page 52157 in the issue of Wednesday, August 25, 2004, make the following corrections:

§ 457.167 [Corrected]

1. On page 52157, in the third column, in newly added §457.167, under the heading 13. Settlement of Claim, in paragraph (d)(2)(ii), “§457.167(d)(2)(i)” should read “section 13(d)(2)(i)”.

2. On the same page, in the same column, in the same section, under the same heading, in paragraph (d)(2)(iv), “§457.167(d)(2)(iii)” should read “section 13(d)(2)(iii)”.

3. On the same page, in the same column, in the same section, under the same heading, in paragraph (d)(2)(v), “§457.167(d)(2)(ii)” should read “section 13(d)(2)(ii)”.

[FR Doc. C4-19446 Filed 9-3-04; 8:45 am]

BILLING CODE 1505-01-D

DEPARTMENT OF HOMELAND SECURITY

Bureau of Customs and Border Protection

DEPARTMENT OF THE TREASURY

19 CFR Part 122

[CBP Dec. 04-28]

Technical Corrections to Customs and Border Protection Regulations

Correction

In rule document 04-19577 beginning on page 52597 in the issue of Friday, August 27, 2004, make the following correction:

§122.62 [Corrected]

On page 52599, in the third column, in § 122.62, in amendatory instruction 16.c., in the 4th and 5th lines, “Export Administration Regulations.” should read “Export Administration Regulations”.

[FR Doc. C4-19577 Filed 9-3-04; 8:45 am]

BILLING CODE 1505-01-D